DEPARTMENT OF COMMERCE

National Oceanic and Atmospheric Administration

RIN: 0648-XD37

North Pacific Fishery Management Council; Public Meeting

AGENCY: National Marine Fisheries Service (NMFS), National Oceanic and Atmospheric Administration (NOAA), Commerce.

ACTION: Notice of a public meeting.

SUMMARY: The North Pacific Fishery Management Council (Council) Salmon Bycatch Workgroup will meet in Anchorage, AK.

DATES: The meeting will be held on November 2, 2007, from 9 a.m. to 2 p.m.

ADDRESSES: The meeting will be held at the Hawthorn Suites, 1110 West 8th Avenue, Anchorage, AK.

Council address: North Pacific Fishery Management Council, 605 W. 4th Ave., Suite 306, Anchorage, AK 99501-2252.

FOR FURTHER INFORMATION CONTACT: Diana Stram, Council staff; telephone: (907) 271-2809

SUPPLEMENTARY INFORMATION: The Committee will discuss salmon bycatch cap formulation alternatives for Bering Sea and Aleutian Islands trawl fisheries and develop recommendations.

Special Accommodations

This meeting is physically accessible to people with disabilities. Requests for sign language interpretation or other auxiliary aids should be directed to Gail Bendixen at (907) 271-2809 at least 7 working days prior to the meeting date.

Dated: October 11, 2007.
Tracey L. Thompson,
Acting Director, Office of Sustainable Fisheries, National Marine Fisheries Service.

[FR Doc. E7-20322 Filed 10-15-07; 8:45 am]

BILLING CODE 3510-22-S